DEPARTMENT OF AGRICULTURE

Request for Extension and Revision of a Currently Approved Information Collection

AGENCY: Agricultural Marketing Service, USDA.

ACTION: Notice and request for comments.

SUMMARY: In accordance with the Paperwork Reduction Act of 1995, this notice announces our intention to request a 3-year extension and revision of a currently approved information collection for “Export Inspection and Weighing Waiver for High Quality Specialty Grain Transported in Containers”.

The realignment of offices within the U.S. Department of Agriculture authorized by the Secretary's Memorandum dated November 14, 2017, eliminates the Grain Inspection, Packers and Stockyard Administration (GIPSA) as a standalone agency. The grain inspection activities formerly part of GIPSA are now organized under AMS.

DATES: We will consider comments that we receive by June 8, 2018.

ADDRESSES: We invite you to submit comments on this notice by any of the following methods:

• The Federal eRulemarking portal: http://www.regulations.gov.

• Karen W. Guagliardo, Director, Quality Assurance and Compliance Division (QACD), Federal Grain Inspection Service (FGIS), USDA/AMS, STOP 3630, Room 2420-South, 1400 Independence Avenue SW, Washington, DC 20250-3630; FGIS.QACD@usda.gov. Comments should reference “High Quality Specialty Grain Exported in Containers Information Collection,” and should reference the date and page number of this issue of the Federal Register. The information collection package, public comments, and other documents relating to this action will be available for public inspection in the above office during regular business hours (7 CFR 1.27(b)).

FOR FURTHER INFORMATION CONTACT: For information regarding the collection of information activities and the use of the information, contact Candace A. Hildreth, Compliance Officer at (202) 720-0203.

SUPPLEMENTARY INFORMATION: Congress enacted The United States Grain Standards Act (USGSA) (7 U.S.C. 71—87k) to facilitate the marketing of grain in interstate and foreign commerce. The USGSA, with few exceptions, requires that all grain shipped from the United States must be officially inspected and officially weighed. The USGSA authorizes the Department of Agriculture to waive the mandatory inspection and weighing requirements of the USGSA in circumstances when the objectives of the USGSA would not be impaired.

Section 7 CFR 800.18 of the regulations waives the mandatory inspection and weighing requirements of the USGSA for high quality specialty grain exported in containers. FGIS established this waiver to facilitate the marketing of high quality specialty grain exported in containers. This action was consistent with the objectives of the USGSA and would promote the continuing development of the high quality specialty grain export market.

To ensure that exporters of high quality specialty grain complied with this waiver, FGIS required exporters to maintain records generated during the normal course of business that pertain to these shipments and make these documents available upon request for review or copying purposes (76 FR 45397). These records shall be maintained for a period of 3 years. This information collection requirement is essential to ensure that exporters who ship high quality specialty grain in containers comply with the waiver provisions. FGIS does not require exporters of high quality specialty grain to complete and submit new Federal government record(s), form(s), or report(s).

Title: Export Inspection and Weighing Waiver for High Quality Specialty Grain Transported in Containers.

OMB Number: 0580-0022.

Expiration Date of Approval: July 31, 2018.

Type of Request: Extension and revision of a currently approved information collection.

Abstract: The regulations under the USGSA waive the mandatory inspection and weighing requirements for high quality specialty grain exported in containers. FGIS established this waiver to facilitate the marketing of high quality specialty grain exported in containers. To ensure compliance with this wavier, FGIS required these exporters to maintain records generated during their normal course of business that pertain to these shipments and make these documents available to FGIS upon request, for review and copying purposes.

Grain Contracts

Estimate of Burden: Public reporting and recordkeeping burden for maintaining contract information averages 6.0 hours per exporter.

Respondents: Exporters of high quality specialty grain in containers.

Estimated Number of Respondents: 40.

Estimated Number of Respondents per Request: 1.

Estimated Total Burden on Respondents: 240 Hours.

Estimated Total Cost: $1,780.

Comments: Comments are invited on: (a) Whether the collection of information is necessary for the proper performance of the functions of the agency, including whether the information will have practical utility; (b) the accuracy of agency's estimate of the burden of the proposed collection of information including the validity of the methodology and assumptions used; (c) ways to enhance the quality, utility, and clarity of the information to be collected; and (d) ways to minimize the burden of the collection of information on those who are to respond, including through the use of appropriate automated, electronic, mechanical, or other technological collection techniques or forms of information technology. All responses to this notice will be summarized and included in the request for OMB approval. All comments will also become a matter of public record.

Dated: April 4, 2018.
Greg Ibach,
Under Secretary, Marketing and Regulatory Programs.

[FR Doc. 2018-07211 Filed 4-6-18; 8:45 am]

BILLING CODE 3410-02-P